DEPARTMENT OF TRANSPORTATION

Federal Aviation Administration

14 CFR Part 71

[Docket No. FAA-2002-14046; Airspace Docket No. 02-AGL-15]

Establishment of Class D Airspace; Sparta, WI; Modification of Class E Airspace; Sparta, WI

AGENCY: Federal Aviation Administration (FAA), DOT.

ACTION: Final rule.

SUMMARY: This action establishes Class D airspace at Sparta, WI, and modifies Class E airspace at Sparta, WI. Area Navigation (RNAV) Standard Instrument Approach Procedures (SIAPs) have been developed for Sparta/Fort McCoy Airport. Controlled airspace extending upward from 700 feet or more above the surface of the earth is needed to contain aircraft executing these approaches. This action would establish a radius of Class D airspace, and increase the radius of the existing Class E airspace for Sparta/Fort McCoy Airport.

EFFECTIVE DATE: 0901 UTC, March 20, 2003.

FOR FURTHER INFORMATION CONTACT: Denis C. Burke, Air Traffic Division, Airspace Branch, AGL-520, Federal Aviation Administration, 2300 East Devon Avenue, Des Plaines, Illinois 60018, telephone (847) 294-7568.

SUPPLEMENTARY INFORMATION:

History

On Thursday, September 19, 2002, the FAA proposed to amend 14 CFR part 71 to establish Class D airspace and modify Class E airspace at Sparta, WI (67 FR 59029). The proposal was to establish Class D and modify Class E airspace, extending upward from 700 feet above the surface of the earth to contain Instrument Flight Rules (IFR) operations in controlled airspace during portions of the terminal operation and while transiting between the enroute and terminal environments. Interested parties were invited to participate in this rulemaking proceeding by submitting written comments on the proposal to the FAA. No comments objecting to the proposal were received. Class D airspace designations are published in paragraph 5000, and Class E airspace areas extending upward from 700 feet above the surface of the earth are published in paragraph 6005, of FAA Order 7400.9K dated August 30, 2002, and effective September 16, 2002, which is incorporated by reference in 14 CFR 71.1. The Class D and Class E airspace designations listed in this document will be published subsequently in the Order.

The Rule

This amendment to 14 CFR part 71 establishes Class D airspace at Sparta, WI, and modifies Class E airspace at Sparta, WI, to accommodate aircraft executing instrument flight procedures into and out of Sparta/Fort McCoy Airport. The area will be depicted on appropriate aeronautical charts.

The FAA has determined that this regulation only involves an established body of technical regulations for which frequent and routine amendments are necessary to keep them operationally current. Therefore, this regulation—(1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for part 71 continues to read as follows:

Authority: 49 U.S.C. 106(g), 40103, 40113, 40120; E.O. 10854, 24 FR 95665, 3 CFR, 1959-1963 Comp., p. 389.

§ 71.1 [Amended]

2. The incorporation by reference in 14 CFR 71.1 of the Federal Aviation Administration Order 7400.9K, Airspace Designations and Reporting Points, dated August 30, 2002, and effective September 16, 2002, is amended as follows:

* * * * *

Paragraph 5000 Class D airspace

* * * * *

AGL WI D Sparta, WI [New]

Sparta, Sparta/Fort McCoy Airport, WI

(Lat. 43° 57′30″ N., long. 90°44′16″ W.)

That airspace extending upward from the surface to and including 3,300 feet MSL within a 4.0-mile radius of the Sparta/Fort McCoy Airport. This Class D airspace area is effective during the specific dates and times established in advance by a Notice to Airmen. The effective date and time will thereafter be continuously published in the Airport/Facility Directory.

* * * * *

Paragraph 6005 Class E airspace areas extending upward from 700 feet or more above the surface of the earth.

* * * * *

AGL WI E5 Sparta, WI [Revised]

Sparta, Sparta/Fort McCoy Airport, WI

(Lat 43°57′30″ N., long. 90°44′16″ W.)

McCoy NDB

(Lat. 43°56′16″ N., long. 90°38′31″ W.)

That airspace extending upward from 700 feet above the surface within a 6.5 mile radius of the Sparta/Fort McCoy Airport and within 3.8 miles each side of the 097° bearing from the McCoy NDB, extending from the 6.5-mile radius to 7 miles east of the NDB.

* * * * *

Issued in Des Plaines, Illinois on January 3, 2003.
Nancy B. Shelton,
Manager, Air Traffic Division, Great Lakes Region.

[FR Doc. 03-1125 Filed 1-16-03; 8:45 am]

BILLING CODE 4910-13-M